DEPARTMENT OF THE INTERIOR

National Park Service

Notice of Inventory Completion for Native American Human Remains and Associated Funerary Objects in the Possession of the U.S. Department of the Interior, National Park Service, Lake Meredith National Recreation Area, Fritch, TX

AGENCY: National Park Service, Interior

ACTION: Notice

Notice is hereby given in accordance with provisions of the Native American Graves Protection and Repatriation Act (NAGPRA), 43 CFR 10.9, of the completion of an inventory of human remains and associated funerary objects in the possession of the U.S. Department of the Interior, National Park Service, Lake Meredith National Recreation Area, Fritch, TX.

This notice is published as part of the National Park Service's administrative responsibilities under NAGPRA, 43 CFR 10.2 (c). The determinations within this notice are the sole responsibility of the National Park Service unit that has control or possession of these Native American human remains. The Assistant Director, Cultural Resources Stewardship and Partnerships is not responsible for the determinations within this notice.

A detailed assessment and inventory of the human remains and associated funerary objects has been made by professional staff of the National Park Service in consultation with representatives of the Caddo Indian Tribe of Oklahoma; Pawnee Nation of Oklahoma; Comanche Indian Tribe, Oklahoma; Kiowa Indian Tribe of Oklahoma; Cheyenne-Arapaho Tribes of Oklahoma; and Wichita & Affilitated Tribes (Wichita, Keechi, Waco & Tawakonie), Oklahoma. The Cohuiltecan Nation, a non-Federally recognized Native American group, also was consulted.

In 1961, human remains representing one individual were recovered during a legally-authorized survey of State site 41P2, then under the management of the U.S. Department of the Interior, Bureau of Reclamation. No known individual was identified. No associated funerary objects are present. Items found elsewhere at the site indicate that these human remains probably were buried during the Late Prehistoric period (A.D. 900-1700).

In 1964, human remains representing a minimum of 22 individuals were recovered during legally-authorized excavation by F.E. Green of Texas Tech University at the Footprint site, then under the management of the U.S. Department of the Interior, Bureau of Reclamation. No known individuals were identified. The 83 associated funerary objects are 2 shell pendants, 68 shell beads, 3 tool fragments, 3 beveled knives, 1 triangular knife, 1 Borger cordmarked pot, 4 bone awls, and 1 fragment of burned animal bone. The associated funerary objects indicate that these human remains probably were buried during the Antelope Creek Focus of the Plains Village-Panhandle Aspect (A.D. 1100-1400).

On March 15, 1965, Lake Meredith National Recreation Area, then called Sanford National Recreation Area, came under the joint administration of the Bureau of Reclamation and the National Park Service. Control of the collections recovered prior to that date has been assumed by the National Park Service.

In 1967, human remains representing one individual were recovered during legally-authorized excavation near the Footprint site. No known individual was identified. No associated funerary objects are present. These human remains are believed to date to the same time as the Footprint site.

In June 1969, human remains representing a minimum of four individuals were recovered during legally-authorized excavations by the Texas Archeological Society at the Blue Creek site. No known individuals were identified. The 264 associated funerary objects are 253 potsherds, 3 chipped stone flakes, 1 unworked mammal bone fragment, 3 Washita type stone arrow points, 1 bison tibia digging stick, and 3 unidentified lithic specimens. The associated funerary objects indicate that these human remains probably were buried during the Plains Village-Panhandle Aspect (A.D. 1100-1400).

Archeological information indicates a continuous occupation of the Texas panhandle area from A.D. 1 through the Plains Village-Panhandle Aspect. Wichita oral tradition links these earlier populations with the Escanxaques, or Iscani people, a constituent band of the present-day Wichita & Affilitated Tribes (Wichita, Keechi, Waco & Tawakonie), Oklahoma. Kiowa oral tradition indicates Kiowa occupation of the Lake Meredith area during prehistoric times.

Based on the above-mentioned information, the superintendent of Lake Meredith National Recreation Area has determined that, pursuant to 43 CFR 10.2 (d)(1), the human remains listed above represent the physical remains of 28 individuals of Native American ancestry. The superintendent of Lake Meredith National Recreation Area also has determined that, pursuant to 43 CFR 10.2 (d)(2), the 336 objects listed above are reasonably believed to have been placed with or near individual human remains at the time of death or later as part of a death rite or ceremony. Lastly, the superintendent of Lake Meredith National Recreation Area has determined that, pursuant to 43 CFR 10.2 (e), there is a relationship of shared group identity that can be reasonably traced between the Native American human remains and associated funerary objects and the Wichita & Affilitated Tribes (Wichita, Keechi, Waco & Tawakonie), Oklahoma and the Kiowa Indian Tribe of Oklahoma.

This notice has been sent to officials of the Caddo Indian Tribe of Oklahoma; Pawnee Nation of Oklahoma; Comanche Indian Tribe, Oklahoma; Kiowa Indian Tribe of Oklahoma; Cheyenne-Arapaho Tribes of Oklahoma; and Wichita & Affilitated Tribes (Wichita, Keechi, Waco & Tawakonie), Oklahoma. This notice has also been sent to officials of the Cohuiltecan Nation, a non-Federally recognized Native American group. Representatives of any other Indian tribe that believes itself to be culturally affiliated with these human remains and associated funerary objects should contact John C. Benjamin, Superintendent, Lake Meredith National Recreation Area, P.O. Box 1460, 419 East Broadway, Fritch, TX 79036, telephone (806) 857-3151, before July 18, 2001. Repatriation of the human remains and associated funerary objects to the Wichita & Affilitated Tribes (Wichita, Keechi, Waco & Tawakonie), Oklahoma and the Kiowa Indian Tribe of Oklahoma may begin after that date if no additional claimants come forward.

Dated: April 5, 2001.
John Robbins,
Assistant Director, Cultural Resources Stewardship and Partnerships.

[FR Doc. 01-15305 Filed 6-15-01; 8:45 am]

BILLING CODE 4310-70-F